ENVIRONMENTAL PROTECTION AGENCY

40 CFR Part 300

[EPA-HQ-SFUND-1990-0010; FRL-9901-15-Region 9]

National Oil and Hazardous Substances Pollution Contingency Plan National Priorities List

AGENCY: Environmental Protection Agency (EPA).

ACTION: Withdrawal of direct final rule.

SUMMARY: On July 24, 2013, EPA published a Notice of Intent to Delete and a direct final Notice of Deletion for the Sola Optical U.S.A., Inc. Superfund Site from the National Priorities List. The EPA is withdrawing the Final Notice of Deletion due to adverse comments that were received during the public comment period. After consideration of the comments received, if appropriate, EPA will publish a Notice of Deletion in the Federal Register based on the parallel Notice of Intent to Delete and place a copy of the final deletion package, including a Responsiveness Summary, if prepared, in the Site repositories.

DATES: This withdrawal of the direct final action published July 24, 2013 (78 FR 44455), is effective as of September 20, 2013.

ADDRESSES: Information Repositories: Comprehensive information on the Site, as well as the comments that we received during the comment period, are available in docket [EPA-HQ-SFUND-1990-0010], accessed through the http://www.regulations.gov Web site. Although listed in the docket index, some information is not publicly available, e.g., CBI or other information whose disclosure is restricted by statute. Certain other material, such as copyrighted material, will be publicly available only in hard copy. Publicly available docket materials are available either electronically in http://www.regulations.gov or in hard copy at:

Superfund Records Center, 95 Hawthorne St., Room 403, Mail Stop SFD-7C, San Francisco, CA 94105, (415) 536-2000, Mon-Fri: 8:00 a.m. to 5:00 p.m.

Petaluma Public Library, 100 Fairgrounds Drive, Petaluma CA 94952, (707) 763-9801, Mon, Thurs, Fri, Sat: 10:00 a.m. to 6:00 p.m., Tues, Wed: 10:00 a.m. to 9:00 p.m.

FOR FURTHER INFORMATION CONTACT: Dante Rodriguez, Remedial Project Manager, U.S. Environmental Protection Agency, Region 9, SFD-8-2, 75 Hawthorne Street, San Francisco, CA 94105, (415) 972-3166, email: rodriguez.dante@epa.gov.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: September 12, 2013.
Jared Blumenfeld,
Regional Administrator, Region 9.

Accordingly, the amendment to Table 1 of Appendix B to CFR Part 300 to remove the entry “Sola Optical U.S.A., Inc.”, “Petaluma, California” is withdrawn as of September 20, 2013.

[FR Doc. 2013-22851 Filed 9-19-13; 8:45 am]

BILLING CODE 6560-50-P